Proclamation 7467 of September 17, 2001

Minority Enterprise Development Week, 2001

By the President of the United States of America

A Proclamation

More than three million minority business owners across the United States are helping to build a stronger America. These hardworking men and women contribute everyday to the economic development of their communities by creating jobs and other opportunities for their neighbors. Minority business entrepreneurs represent the best of the American spirit, in their determination to overcome obstacles and in their striving for better lives for themselves and for their families.

My Administration encourages the growth and success of minority businesses across the United States by giving them the tools to succeed. The recent passage of the largest tax cut in nearly two decades is just one of those tools. We also slashed the bottom Federal income tax rate from 15 percent to 10 percent and thereby put more money into the hands of consumers and entrepreneurs. We are eliminating the death tax that has been such a heavy burden on our minority business owners. And I signed into law, Public Law 107-16, the “Economic Growth and Tax Reconciliation Act of 200l,” that will increase lower income groups' access to the middle class, promote equal opportunity, and encourage entrepreneurship.

One important way that we can encourage entrepreneurial growth in the minority-owned business community is to open up new markets abroad for American products. If Congress gives me trade promotion authority (TPA), I will have the negotiating power to knock down the trade barriers that prevent American goods from entering some markets around the world. The growth and expanded opportunities that TPA would bring will mean jobs for many working people and more opportunities for minority-owned businesses.

As we celebrate the achievements of our Nation's minority entrepreneurs during Minority Enterprise Development Week, we also affirm our commitment to the principle of equal opportunity. My Administration is working hard to achieve an historic reform in our education system that will significantly improve our schools and make sure that no child is left behind. My agenda also supports effective job training for all Americans to ensure that the American dream touches every willing heart. In so doing, we will enhance our Nation's strength and productivity, while creating more vibrant communities and improved standards of living for every citizen.

NOW, THEREFORE, I, GEORGE W. BUSH, President of the United States of America, by virtue of the authority vested in me by the Constitution and laws of the United States, do hereby proclaim September 23 through September 29, 2001, as Minority Enterprise Development Week. I urge all Americans to join in observing this week with appropriate programs, ceremonies, and activities.

IN WITNESS WHEREOF, I have hereunto set my hand this seventeenth day of September, in the year of our Lord two thousand one, and of the Independence of the United States of America the two hundred and twenty-sixth.

B

[FR Doc. 01-23622

Filed 09-18-01; 12:17 pm]

Billing code 3195-01-P